DEPARTMENT OF THE INTERIOR

Bureau of Reclamation

[RR83550000, 234R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports.

ARRA American Recovery and Reinvestment Act of 2009

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

1. Irrigation, M&I, and miscellaneous water users; Colorado, Kansas, Montana, Nebraska, North Dakota, Oklahoma, South Dakota, Texas, and Wyoming: Water service contracts for the sale, conveyance, storage, and exchange of surplus project water and non-project water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for XM and replacement funded pursuant to title IX, subtitle G of Public Law 111-11.

3. Green Mountain Reservoir, Colorado-Big Thompson Project, Colorado: Water service contracts for irrigation and M&I; contracts for the sale of water from the marketable yield to water users within the Colorado River Basin of western Colorado.

4. Fryingpan-Arkansas Project, Colorado: Consideration of excess capacity contracting in the Fryingpan-Arkansas Project.

5. Colorado-Big Thompson Project, Colorado: Consideration of excess capacity contracting in the Colorado-Big Thompson Project.

6. Milk River Project, Montana: Proposed amendments to contracts to reflect current land ownership.

7. Title transfer agreements; Colorado, Kansas, Montana, Nebraska, North Dakota, Oklahoma, South Dakota, Texas, and Wyoming: Potential title transfer agreements pursuant to the John D. Dingell, Jr. Conservation, Management, and Recreation Act of March 12, 2019 (Pub. L. 116-9).

8. Garrison Diversion Conservancy District; Garrison Diversion Unit, P-SMBP; North Dakota: Intent to modify long-term water service contract to add additional irrigated acres.

9. Garrison Diversion Conservancy District; Garrison Diversion Unit, P-SMBP; North Dakota: Consideration of contract amendments to provide up to an additional 145 cubic-feet-per-second of water for rural and M&I purposes.

10. Buford-Trenton ID; Buford-Trenton Project, P-SMBP; North Dakota: Consideration to amend long-term irrigation power repayment contract and project-use power contract to include additional acres.

11. Southeastern Colorado Water Conservancy District, Fryingpan-Arkansas Project, Colorado: Consideration of a repayment contract for the North Outlet Works—South Outlet Works Interconnect at Pueblo Reservoir.

12. Pitkin County and City of Aurora, Ruedi Reservoir, Fryingpan-Arkansas Project, Colorado: Consideration of excess capacity contract at Ruedi Reservoir.

13. Fresno Dam, Milk River Project, Montana: Consideration of contract(s) for repayment of SOD costs.

14. Canyon Ferry Water Users Association; Canyon Ferry Unit, P-SMBP; Montana: Consideration of a new long-term contract for an irrigation water supply.

15. Lugert-Altus ID, W.C. Austin Project, Oklahoma: Consideration for amendment to contract No. Ilr-1375.

16. Tom Green County Water Control and Improvement District No. 1, San Angelo Project, Texas: Consideration of a potential contract(s) for use of excess capacity by individual landowner(s) for irrigation purposes.

17. Kansas Bostwick ID No. 2; Bostwick Division, P-SMBP; Kansas: Consideration of a contract for repayment of SOD costs.

18. Bostwick ID in Nebraska; Bostwick Division, P-SMBP; Nebraska: Consideration of a contract for repayment of SOD costs.

19. Glen Elder ID; Glen Elder Unit, P-SMBP; Kansas: Consideration of an amendment to change the amount of annual water supply in contract No. 199E630032.

20. City of Casper; Kendrick Project, Wyoming: Consideration for renewal of long-term water service contract No. 2-07-70-W0534.

21. Greenfields ID, Sun River Project, Montana: Consideration of a lease of power privilege.

22. Water user entities responsible for payment of reimbursable costs for Reclamation projects in Colorado, Kansas, Montana, Nebraska, North Dakota, Oklahoma, South Dakota, Texas, and Wyoming: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

23. Arkansas Valley Conduit, Fryingpan-Arkansas Project, Colorado: Consideration of a repayment contract for the Arkansas Valley Conduit.

24. 71 Ranch, L.P.; Canyon Ferry Unit, P-SMBP; Montana: Consideration of a new long-term contract for an irrigation water supply.

25. Board of Water Works of Pueblo; Fryingpan-Arkansas Project, Colorado: Consideration of an amendment to assign contract No. 039E6C0117 for transportation of water.

Completed contract action:

1. (9) Garrison Diversion Conservancy District; Garrison Diversion Unit, P-SMBP; North Dakota: Consideration for conversion of irrigation water service contract No. 129E620001 to a repayment contract. Contract executed on January 23, 2023.

Upper Colorado Basin—Interior Region 7: Bureau of Reclamation, 125 South State Street, Room 8100, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10,000 acre-feet of water annually for terms up to 5 years; long-term contracts for similar service for up to 1,000 acre-feet of water annually.

2. Contracts with various water user entities responsible for payment of O&M costs for Reclamation projects in Arizona, Colorado, New Mexico, Texas, Utah, and Wyoming: Contracts for extraordinary maintenance and replacement funded pursuant to title IX, subtitle G of Public Law 111-11 to be executed as project progresses.

3. Middle Rio Grande Project, New Mexico: Reclamation will continue annual leasing of water from various San Juan-Chama Project contractors in 2023 to stabilize flows in a critical reach of the Rio Grande to meet the needs of irrigators and preserve habitat for the silvery minnow. Reclamation leased approximately 7,308 acre-feet of water from San Juan-Chama Project contractors in 2022.

4. South Cache Water Users Association, Hyrum Project, Utah: Problems with the spillway at Hyrum Dam requires the construction of a new spillway under the SOD Act, as amended. A repayment contract is necessary to recover 15 percent of the construction costs in accordance with the SOD Act.

5. Pojoaque Valley ID, San Juan-Chama Project, New Mexico: An amendment to the repayment contract to reflect the changed allocations of the Aamodt Litigation Settlement Act (title VI of the Claims Resolution Act of 2010, Pub. L. 111-291, December 8, 2010, and article 7 of the Settlement Agreement dated April 19, 2012) is currently under review by the Pojoaque Valley ID board. The draft contract is currently under review with the Pojoaque Valley ID board.

6. State of Wyoming, Seedskadee Project; Wyoming. The Wyoming Water Development Commission is interested in purchasing an additional 219,000 acre-feet of M&I water from Fontenelle Reservoir. Reclamation and the State of Wyoming are pursuing entering into a Contributed Funds Act agreement which allows the State to advance funds to Reclamation associated with activities involved in contracting for remaining available M&I water as specified in section 4310 of Public Law 115-270.

7. Ute Indian Tribe of the Uinta and Ouray Reservation, CUP, Utah: The Ute Indian Tribe of the Uinta and Ouray Reservation has requested the use of excess capacity in the Strawberry Aqueduct and Collection System, as authorized in the CUP Completion Act legislation.

8. Ute Indian Tribe of the Uinta and Ouray Reservation; Flaming Gorge Unit, CRSP; Utah: As part of discussions on settlement of a potential compact, the Ute Indian Tribe of the Uinta and Ouray Reservation has indicated interest in storage of its potential water right in Flaming Gorge Reservoir.

9. State of Utah; Flaming Gorge Unit, CRSP; Utah: The State of Utah has requested contracts that will allow the full development and use of the CUP Ultimate Phase water right of 158,000 acre-feet of depletion, which was previously assigned to the State of Utah. A contract for 72,641 acre-feet was executed March 20, 2019. A contract for the remaining 86,249 acre-feet has been negotiated and is awaiting completion of NEPA activities.

10. Weber Basin Water Conservancy District, Weber Basin Project, Utah: The District has requested permission to install a low-flow hydro-electric generation plant at Causey Reservoir to take advantage of winter releases. This will likely be accomplished through a supplemental O&M contract.

11. Ute Mountain Ute Tribe, Animas-La Plata Project, Colorado: Ute Mountain Ute Tribe has requested a water delivery contract for 16,525 acre-feet of M&I water; contract terms to be consistent with the Colorado Ute Settlement Act Amendments of 2000 (title III of Pub. L. 106-554).

12. Navajo-Gallup Water Supply Project, New Mexico: Reclamation continues negotiations on an OM&R transfer contract with the Navajo Tribal Utility Authority pursuant to Public Law 111-11, section 10602(f) which transfers responsibilities to carry out the OM&R of transferred works of the Project; ensures the continuation of the intended benefits of the Project; distribution of water; and sets forth the allocation and payment of annual OM&R costs of the Project.

13. Animas-La Plata Project, Colorado-New Mexico: (a) Navajo Nation title transfer agreement for the Navajo Nation Municipal Pipeline for facilities and land outside the corporate boundaries of the City of Farmington, New Mexico; contract terms to be consistent with the Colorado Ute Settlement Act Amendments of 2000 (title III of Pub. L. 106-554) and the Northwestern New Mexico Rural Water Projects Act (title X of Pub. L. 111-11); (b) City of Farmington, New Mexico, title transfer agreement for the Navajo Nation Municipal Pipeline for facilities and land inside the corporate boundaries of the City of Farmington, New Mexico, contract terms to be consistent with the Colorado Ute Settlement Act Amendments of 2000 (title III of Pub. L. 106-554) and the Northwestern New Mexico Rural Water Projects Act (title X of Pub. L. 111-11); and (c) Operations agreement among the United States, Navajo Nation, and City of Farmington for the Navajo Nation Municipal Pipeline pursuant to Public Law 111-11, section 10605(b)(1) that sets forth any terms and conditions that secures an operations protocol for the M&I water supply.

14. City of Page, Arizona; Glen Canyon Unit, CRSP; Arizona: Request for a long-term contract for 975 acre-feet of water for municipal purposes.

15. Middle Rio Grande Water Conservancy District, Middle Rio Grande Project, New Mexico: Repayment contract for SOD work at El Vado Dam. This work is anticipated to begin in 2023 and involves repairs to the steel faceplate and spillways.

16. Title transfer agreements; Arizona, Colorado, New Mexico, Texas, Utah, and Wyoming: Potential title transfers agreements pursuant to the John D. Dingell, Jr. Conservation, Management, and Recreation Act of March 12, 2019 (Pub. L. 116-9).

17. Taos Pueblo, San Juan-Chama Project, New Mexico: Reclamation is in negotiations with the Taos Pueblo to lease up-to 2,200 acre-feet of the Pueblo's Project water to stabilize flows in a critical reach of the Rio Grande to meet the needs of the endangered silvery minnow. This contract is in accordance with approved basis of negotiation dated April 20, 2021. Reclamation will seek a 15-year contract term beginning in 2023 through 2037. The Taos Pueblo are currently reviewing the final contract.

18. Mancos Water Conservancy District, Mancos Project, Colorado: Amendment (No. 2) to repayment contract No. 10-WC-40-394 to incorporate the provisions provided in Public Law 116-260, to review and approve costs associated with the completion of the rehabilitation project and credit the District for all amounts paid by the District for engineering work and improvements directly associated with the rehabilitation project, whether before, on, or after the date of enactment of Public Law 116-260.

19. Uncompahgre Water Users Association and Gunnison County Electric Association (together, Taylor River Hydro, LLC), Uncompahgre Project, Colorado: Lease of power privilege contract for development of hydropower at Taylor Park Dam. This contract will provide the terms and conditions for leasing the Federal premises for leasing the Federal premises for third-party hydropower development.

20. Weber River Water Users Association, Weber River, Utah: The Association is pursuing a conversion contract under the Miscellaneous Purposes Act of 1920 to convert all or part of its water from irrigation to miscellaneous purposes.

21. Uintah Water Conservancy District; Jensen Unit, CUP; Utah: The District has requested to initiate the process to construct the Burns Bench Pumping Plant, as part of the CUP—Jensen Unit. This action will require various contracts and agreements which include a Contributed Funds Act agreement for the District to provide funding to Reclamation and an implementation agreement for construction and O&M of the Burns Bench Pumping Plant.

22. Moon Lake Water Users Association, Moon Lake Project, Utah: The Association is interested in installing a small hydro-electric generation plant on the outlet works Moon Lake Dam. This will likely be accomplished through a supplemental O&M agreement.

23. Albuquerque Bernalillo County Water Utility Authority, San Juan-Chama Project, New Mexico: The Albuquerque Bernalillo County Water Utility Authority and Reclamation have entered negotiations for a contract to lease 10,000 acre-feet of storage space in Abiquiu Reservoir to store San Juan-Chama Project water. This will be a 15-year contract beginning 2023 through 2037.

24. Eden Valley IDD, Eden Project, Wyoming: The Eden Valley IDD proposes to raise the level of Big Sandy Dam to fully perfect its water rights. An agreement will be necessary to obtain the authorization to modify Federal facilities.

25. Pueblo of Ohkay Owingeh, San Juan-Chama Project, New Mexico: Lease for 2,000 acre-feet of the Pueblo's San Juan-Chama Project water to stabilize flows in a critical reach of the Rio Grande to meet the needs of the endangered silvery minnow. This contract will be for a term of 15 years.

26. Albuquerque Bernalillo County Water Utility Authority, San Juan-Chama Project, New Mexico: Contract for Reclamation to lease 5,000 acre-feet of the Authority's San Juan-Chama Project water to stabilize flows in the critical reaches of the Rio Grande to meet the needs of the endangered silvery minnow. This contract will be for a term of 3 years.

27. Grand Valley Water Users Association and Orchard Mesa ID, Grand Valley Project, Colorado: Lease of Power Privilege contract for development of hydropower on the Power Canal (Vinelands Power Plant) near the existing Grand Valley Power Plant which has been decommissioned. This contract provides the terms and conditions for leasing the Federal premises for 3rd party hydropower development.

28. Public Service Company of New Mexico, Navajo-Gallup Water Supply Project, New Mexico: Reclamation continues negotiations for a carriage contract with Public Service Company of New Mexico pursuant to Public Law 111-11, section 10602(h) which provides conveyance and storage of non-project water through Project facilities and sets forth payment of OM&R costs assignable to the Company for the use of Project facilities.

29. Enchant Energy Corporation, Navajo-Gallup Water Supply Project, New Mexico (Project): Reclamation continues negotiations for a carriage contract with Enchant Energy Corporation pursuant to Public Law 111-11, section 10602(h) which provides conveyance and storage of non-project water through Project facilities and sets forth payment of OM&R costs assignable to Enchant Energy for the use of Project facilities.

30. Albuquerque Bernalillo County Water Utility Authority, San Juan-Chama Project, New Mexico: Reclamation has held technical meetings with the Water Authority regarding retention of prior and paramount water in Abiquiu Reservoir on behalf of the six Middle Rio Grande Pueblos. El Vado Reservoir, which normally retains the Pueblo's prior and paramount water, is under construction and will likely not be ready to store water again until 2024.

31. Jicarilla Apache Nation, Navajo Project, New Mexico: Water service agreement between the Jicarilla Apache Nation and SIMCOE for delivery of 1,500 acre-feet of M&I water from the Jicarilla's Settlement Water from the Navajo Reservoir Supply. This agreement will have a term through December 31, 2026.

32. San Juan Water Commission, Public Service Company of New Mexico, and the La Plata Conservancy District; Animas-La Plata Project; New Mexico: Contract for the delivery of 500 acre-feet of M&I water from the Navajo Reservoir supply as supplemented via exchange of Animas-La Plata Project water at the confluence of the San Juan and Animas Rivers. This agreement will have a term through December 31, 2032.

33. Grand Valley Water Users Association, Grand Valley Project, Colorado: Development of an XM contract pursuant to title IX, subtitle G of Public Law 111-11, to provide funds to the Association for the XM required for the Project.

34. Orchard City ID, Fruitgrowers Project, Colorado: Development of a Contributed Funds Agreement for work at Fruitgrowers Reservoir.

35. The Wyoming Water Development Commission; Seedskadee Project, Wyoming: The Commission has requested to acquire additional water in Fontenelle Reservoir. Reclamation is engaging in technical meetings with the Commission to explore the potential terms of a repayment contract, including the quantity of water available.

36. Water user entities responsible for payment of reimbursable costs for Reclamation projects in Colorado and Utah: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

37. Strawberry Valley Water Users Association, Strawberry Valley Project, Utah: The Association is pursuing a conversion contract under the Miscellaneous Purposes Act of 1920 to convert all or part of its water from irrigation to miscellaneous purposes.

Completed contract action:

1. (36) San Juan Water Commission and LOGOS Resources II, LLC; Animas-La Plata Project; New Mexico: Contract for the delivery of 1,500 acre-feet of M&I water from the Navajo Reservoir supply as supplemented via exchange of Animas-La Plata Project water at the confluence of the San Juan and Animas Rivers. This agreement will have a term through December 31, 2031. Contract executed on September 21, 2022.

Lower Colorado Basin—Interior Region 8: Bureau of Reclamation, P.O. Box 61470 (Nevada Highway and Park Street), Boulder City, Nevada 89006-1470, telephone 702-293-8192.

1. Milton and Jean Phillips, BCP, Arizona: Develop a Colorado River water delivery contract for 60 acre-feet of Colorado River water per year as recommended by the Arizona Department of Water Resources.

2. Ogram Boys Enterprises, Inc., BCP, Arizona: Revise Exhibit A of the contract to change the contract service area and points of diversion/delivery.

3. Gold Dome Mining Corporation and Wellton-Mohawk IDD, Gila Project, Arizona: Terminate contract No. 0-07-30-W0250 pursuant to articles 11(d) and 11(e).

4. Estates of Anna R. Roy and Edward P. Roy, Gila Project, Arizona: Terminate contract No. 6-07-30-W0124 pursuant to Article 9(c).

5. ChaCha, LLC, Arizona, BCP: Assignment of the water delivery contract for transfer of ownership of the land within ChaCha LLC's contract service area.

6. Desert Lawn Memorial Park Associates, Inc., and SAIA Family LP, BCP, Arizona: Review and approve a proposed partial assignment of contract No. 14-06-300-2587 as recommended by the Arizona Department of Water Resources and transfer of Arizona fourth priority Colorado River water in the amount of 315 acre-feet per year from 360 acre-feet per year on 70 acres of land acquired from Desert Lawn Memorial Park Associates, Inc.

7. Armon Curtis, BCP, Arizona: Amendment and partial assignment of the water delivery contract for transfer of ownership of the Armon Curtis Deeded land and exclude lands owned by the United States.

8. Gary and Barbara Pasquinelli and Pasquinelli, Gary J Trust/90, BCP, Arizona: Amendment and assignment of the water delivery contract for transfer of ownership to Pasquinelli, Gary J Trust/90.

9. Present Perfected Right 30 (Stephenson), BCP, California: Offer contracts for delivery of Colorado River water to holders of miscellaneous present perfected rights as described in the 2006 Consolidated Decree in Arizona v. California, 547 U.S. 150.

10. Wilbur G. and Carrol D. Schroeder, BCP, California: Terminate contract No. 6-07-30-W0137 for delivery of Colorado River water under Present Perfected Right No. 38 as described in the 2006 Consolidated Decree in Arizona v. California, 547 U.S. 150.

11. Sunmor Properties, Inc., BCP, California: Terminate contract No. 6-07-30-W0139 for delivery of Colorado River water under Present Perfected Right No. 38 as described in the 2006 Consolidated Decree in Arizona v. California, 547 U.S. 150.

12. Ronnie and Linda Herndon, BCP, California: Terminate contract No. 6-07-30-W0138 for delivery of Colorado River water under Present Perfected Right No. 38 as described in the 2006 Consolidated Decree in Arizona v. California, 547 U.S. 150.

13. Jack D. Brown, BCP, California: Terminate contract No. 7-07-30-W0149 for delivery of Colorado River water under Present Perfected Right No. 38 as described in the 2006 Consolidated Decree in Arizona v. California, 547 U.S. 150.

14. Palms River Resort, Inc., BCP, California: Offer a contract to the current landowner for delivery of Colorado River water under Present Perfected Right No. 38 as described in the 2006 Consolidated Decree in Arizona v. California, 547 U.S. 150.

15. City of Needles, BCP, California: Approve a new point of diversion under contract No. 05-XX-30-W0445, as amended, dated March 16, 2007, and contract No. 2-07-30-W0280, as amended, dated July 3, 2002, and revise the necessary exhibits of the above-referenced contracts to add an additional point of diversion.

16. GSC Farm, LLC, and the Town of Queen Creek, Arizona; BCP; Arizona: Enter into a proposed partial assignment and transfer of Arizona fourth-priority Colorado River water in the amount of 2,033.01 acre-feet per year from GSC to Queen Creek, amend GSC's Colorado River water delivery contract No. 13-XX-30-W0571 to decrease their Colorado River water entitlement from 2,913.3 to 69.93 acre-feet per year, enter into Colorado River water delivery contract No. 20-XX-30-W0689 with Queen Creek for 2,033.01 acre-feet per year of Arizona fourth-priority Colorado River water entitlement, and enter into a wheeling agreement between the United States and Queen Creek for the wheeling of non-project water to be transported through the CAP for the use or benefit of Queen Creek.

17. Mohave Water Conservation District and the City of Bullhead City, Arizona; BCP; Arizona: Enter into a proposed contract No. 9-07-30-W0012, assignment of Arizona fourth-priority Colorado River water entitlement in the amount of 1,800 acre-feet per year from the District to Bullhead City and amend Bullhead City's Colorado River water delivery contract No. 2-07-30-W0273 to increase their Colorado River water entitlement from 15,210 to 17,010 acre-feet per year and increase the Bullhead City contract service area to include the District's land that previously received Colorado River water pursuant to contract No. 9-07-30-W0012.

18. Gila Monster Farms Partnership, LLC; BCP; Arizona: Proposed partial assignment of contract No. 6-07-30-W0337 providing for the transfer of ownership of 480 acres within the contract service area to Tama Land Pacific, LLC, and transfer of associated Colorado River water in the appropriate quantity and priority associated with the land purchased. Amend Gila Monster Farms Partnership, LLC Colorado River water delivery contract No. 6-07-30-W0337 to decrease its Colorado River water entitlement commensurate with the partial assignment.

19. Western Water, LLC and Cibola Valley IDD, BCP, Arizona: Approve an amendment of Western's contract service area under their contract No. 16-XX-30-W0619, as amended (Western Contract), to include the previously excluded parcels of land; namely, the eastern halves of Assessor Parcel Nos. 301-08-003C and 301-08-003D. The inclusion of these lands within the Western Contract service area will make these lands eligible to receive Arizona fourth-priority Colorado River water from Western. Western has an Arizona fourth-priority Colorado River water entitlement under the Western Contract for an annual diversion of 536.48 acre-feet of Colorado River water for irrigation use within the Western Contract service area. Additionally, Reclamation will amend the District's contract service area under their contract to exclude Western lands. The exclusion of the Western lands from the District's contract service area will make the Western lands ineligible to receive Arizona fourth-, fifth-, and/or sixth-priority water from the District. The District's boundary will remain the same.

20. Gold Standard Mines Corp., BCP, Arizona: Termination of contract No. 3-07-30-W0038 for delivery of Colorado River water for use in Arizona.

21. Milton and Jean Phillips, BCP, Arizona: Develop a Colorado River water delivery contract for 42 acre-feet of Colorado River water per year, in accordance with Present Perfected Right No. 19 as described in the 2006 Consolidated Decree in Arizona v. California, 547 U.S. 150.

22. Water user entities responsible for payment of reimbursable costs for Reclamation projects in Arizona and California: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

Completed contract actions:

1. (16) San Carlos Apache Tribe and the Town of Gilbert, CAP, Arizona: Execute a CAP water lease for the San Carlos Apache Tribe to lease 10,267 acre-feet of its CAP water to the Town of Gilbert during calendar year 2022 (Amendment No. 11). Contract executed on July 13, 2022.

2. (17) San Carlos Apache Tribe and Pascua Yaqui Tribe, CAP, Arizona: Execute a CAP water lease for the San Carlos Apache Tribe to lease 1,730 acre-feet of its CAP water to the Pascua Yaqui Tribe during calendar year 2022. Contract executed on July 13, 2022.

3. (18) San Carlos Apache Tribe and Freeport Minerals Corporation, CAP, Arizona: Execute a CAP water lease for the San Carlos Apache Tribe to lease 12,990 acre-feet of its CAP water to Freeport Minerals Corporation during calendar year 2022. Contract executed on July 13, 2022.

Columbia-Pacific Northwest—Interior Region 9: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; Juniper Flat District Improvement Company, Wapinitia Project, Oregon; and Whitestone Reclamation District, Chief Joseph Dam Project, Washington: Amendatory repayment and water service contracts; purpose is to conform to the RRA.

5. Conagra Foods Lamb Weston, Inc., Columbia Basin Project, Washington: Miscellaneous purposes water service contract providing for the delivery of up to 1,500 acre-feet of water from the Scooteney Wasteway for effluent management.

6. Burley and Minidoka IDs, Minidoka Project, Idaho: Supplemental and amendatory contracts to transfer the O&M of the Main South Side Canal Headworks to Burley ID and transfer the O&M of the Main North Side Canal Headworks to Minidoka ID.

7. Clean Water Services and Tualatin Valley ID, Tualatin Project, Oregon: Long-term water service contract that provides for the District to allow Clean Water Services to beneficially use up to 6,000 acre-feet annually of stored water for water quality improvement.

8. Stanfield ID, Umatilla Basin Project, Oregon: A short-term water service contract to provide for the use of conjunctive use water, if needed, for the purposes of pre-saturation and for such use in October to extend their irrigation season.

9. Falls ID, Michaud Flats Project, Idaho: Amendment to contract No. 14-06-100-851 to authorize the District to participate in State water rental pool.

10. Roza ID, Yakima Project, Washington: Contract for use of water in dead space of Kachess Reservoir and construction of a pumping plant.

11. Windy River LLC, Umatilla Project, Oregon: Contract pursuant to the Warren Act for use of project facilities.

12. Water user entities responsible for repayment of reimbursable project construction costs in Idaho, Washington, Oregon, Montana, and Wyoming: Contracts for conversion or prepayment executed pursuant to the WIIN Act.

13. Title transfer agreements; Idaho, Washington, Oregon, Montana, and Wyoming: Potential title transfers agreements pursuant to the John D. Dingell, Jr. Conservation, Management, and Recreation Act of March 12, 2019 (Pub. L. 116-9).

14. Irrigation water districts; Idaho, Washington, Oregon, Montana, and Wyoming: Temporary Warren Act contracts for terms of up to 5 years providing for use of excess capacity in Reclamation facilities for annual quantities exceeding 10,000 acre-feet.

15. Idaho, Washington, Oregon, Montana, and Wyoming: Aquifer Recharge Flexibility Act (Pub. L. 116-260) contracts that allow the use of excess capacity in Reclamation facilities for aquifer recharge of non-Reclamation project water.

16. Storage Division, Yakima Project, Washington: Contracts with 23 water user entities for the repayment of reimbursable shares of the costs of the SOD program modification for Kachess Dam.

17. Water user entities responsible for payment of reimbursable costs for Reclamation projects in Idaho, Washington, and parts of Montana, Oregon, and Wyoming: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

18. J.R. Simplot Company and Micron Technology, Inc.; Boise Project, Arrowrock Division; Idaho: Request to renew M&I water service contract pursuant to section 9(c)(2) of the Reclamation Project Act of 1939.

Completed contract actions:

1. (6) Three irrigation water user entities, Rogue River Basin Project, Oregon: Long-term contracts for exchange of water service with three entities for the provision of up to 292 acre-feet of stored water from Applegate Reservoir (a USACE project) for irrigation use in exchange for the transfer of out-of-stream water rights from the Little Applegate River to instream flow rights with the State of Oregon for instream flow use. Two contract actions completed in 2013. The third offered contract was not signed, and no further activity is expected.

2. (20) Idaho Board of Water Resources, Boise Project, Idaho: Reclamation intends to negotiate an agreement with the Idaho Board of Water Resources to cost share construction of the raise of Anderson Ranch Dam, under the WIIN Act. Contract executed on November 19, 2021.

California-Great Basin—Interior Region 10: Bureau of Reclamation, 2800 Cottage Way, Sacramento, California 95825-1898, telephone 916-978-5250.

1. Irrigation water districts, individual irrigators, M&I and miscellaneous water users; California, Nevada, and Oregon: Short-term (up to 5 years)—Water service contracts for available project water for irrigation, M&I, or fish and wildlife purposes providing up to 10,000 acre-feet of water annually; Warren Act contracts for use of excess capacity in project facilities for quantities that could exceed 10,000 acre-feet annually; and contracts for similar service for up to 1,000 acre-feet annually.

2. State of California, Department of Water Resources, CVP, California: Temporary or short-term conveyance agreements for various purposes.

3. Sutter Extension WD, Delano-Earlimart ID, Pixley ID, the State of California Department of Water Resources, and the State of California Department of Fish and Wildlife; CVP; California: Pursuant to Public Law 102-575, agreements with non-Federal entities for the purpose of providing funding for Central Valley Project Improvement Act refuge water conveyance and/or facilities improvement construction to deliver water for certain Federal wildlife refuges, State wildlife areas, and private wetlands.

4. CVP Service Area, California: Temporary water acquisition agreements for purchase of 5,000 to 200,000 acre-feet of water for fish and wildlife purposes as authorized by Public Law 102-575 for terms of up to 5 years.

5. Horsefly, Klamath, Langell Valley, and Tulelake IDs; Klamath Project; Oregon: Repayment contracts for SOD work on Clear Lake Dam. These districts will share in repayment of costs, and each district will have a separate contract.

6. Irrigation water districts, individual irrigators, M&I, and miscellaneous water users; CVP; California: Execution of long-term Warren Act contracts (up to 40 years) with various entities for conveyance of non-project water in the CVP.

7. Tuolumne Utilities District (formerly Tuolumne Regional WD), CVP, California: Long-term water service contract for up to 6,000 acre-feet from New Melones Reservoir, and possibly a long-term contract for storage of non-project water in New Melones Reservoir.

8. Pershing County Water Conservation District, Pershing County, State of Nevada, and Lander County; Humboldt Project; Nevada: Title transfer of lands and features of the Humboldt Project.

9. San Luis WD, CVP, California: Proposed partial assignment of 4,449 acre-feet of the District's CVP supply to Santa Nella County WD for M&I use.

10. Irrigation contractors, Klamath Project, Oregon: Amendment of repayment contracts or negotiation of new contracts to allow for recovery of additional capital costs.

11. City of Santa Barbara, Cachuma Project, California: Execution of a long-term Warren Act contract with the City for conveyance of non-project water in Cachuma Project facilities.

12. Non-Federal Operating Entities and Contractors with O&M responsibilities for transferred works; California, Nevada, and Oregon: Contracts for XM and replacement funded pursuant to title IX, subtitle G of Public Law 111-11.

13. Cachuma Operation and Maintenance Board, Cachuma Project, California: Amendment to SOD contract No. 01-WC-20-2030 to provide for increased SOD costs associated with Bradbury Dam.

14. Westlands WD, CVP, California: Negotiation and execution of a long-term repayment contract to provide reimbursement of costs already incurred related to the prior construction of drainage facilities. This action is being undertaken in part to satisfy the Federal Government's obligation to provide drainage service to Westlands located within the San Luis Unit of the CVP.

15. San Luis WD, Meyers Farms Family Trust, and Reclamation; CVP; California: Revision of an existing contract among San Luis WD, Meyers Farms Family Trust, and Reclamation providing for an increase in the exchange of water from 6,316 to 10,526 acre-feet annually and an increase in the storage capacity of the bank to 60,000 acre-feet.

16. Contra Costa WD, CVP, California: Amendment to an existing O&M agreement to transfer O&M of the Contra Costa Rock Slough Fish Screen to the Contra Costa WD.

17. Irrigation water districts, individual irrigators, and M&I water users; CVP; California: Temporary water service contracts for terms not to exceed 1 year for up to 50,000 acre-feet of surplus supplies of CVP water resulting from an unusually large water supply, not otherwise storable for project purposes, or from infrequent and otherwise unmanaged flood flows of short duration.

18. Sacramento River Division, CVP, California: Administrative assignments of various Sacramento River Settlement Contracts.

19. PacifiCorp, Klamath Project, Oregon and California: Transfer of O&M of Link River Dam and associated facilities. Contract will allow for the continued O&M by PacifiCorp.

20. Tulelake ID, Klamath Project, Oregon and California: Transfer of O&M of Station 48 and gate on Drain No. 1, Lost River Diversion Channel.

21. U.S. Fish and Wildlife Service and Tulelake ID, Klamath Project, Oregon and California: Water service contract for deliveries to Lower Klamath National Wildlife Refuge, including transfer of O&M responsibilities for the P Canal system.

22. Tulelake ID, Klamath Project, Oregon and California: Amendment of repayment contract to eliminate reimbursement for P Canal O&M costs.

23. Placer County Water Agency and East Bay Municipal Utility District, CVP, California: Long-term Warren Act contracts for up to 47,000 acre-feet of water annually with the Agency for storage and conveyance in Folsom Reservoir and with the District for conveyance through Folsom South Canal.

24. Santa Barbara County Water Agency, Cachuma Project, California: Negotiation and execution of a long-term water service contract.

25. Cachuma Operations and Maintenance Board, Cachuma Project, California: Negotiation and execution of an O&M contract.

26. State of California, Department of Water Resources; CVP; California: Negotiation of a multi-year, long-term wheeling agreement with the State of California, Department of Water Resources providing for the conveyance and delivery of CVP water through the State of California's water project facilities to Byron-Bethany ID (Musco Family Olive Company), Del Puerto WD, and the Department of Veterans Affairs, San Joaquin Valley National Cemetery.

27. Contra Costa WD, CVP, California: Title transfer of lands and features of the Contra Costa Canal System of the CVP.

28. Title transfer agreements; California, Nevada, and Oregon: Potential title transfers agreements pursuant to the John D. Dingell, Jr. Conservation, Management, and Recreation Act of March 12, 2019 (Pub. L. 116-9).

29. CVP, California: Operational agreements, exchange agreements, and contract amendments with non-Federal project entities as required for Federal participation in non-Federal storage projects pursuant to the WIIN Act.

30. Shasta County Water Agency, CVP, California: Proposed partial assignment of 400 acre-feet of the Shasta County Water Agency's CVP water supply to the Shasta Community Services District for M&I use.

31. Sacramento River Settlement Contractors, CVP, California: Temporary agreements for the purchase of conserved water for fish and wildlife purposes.

32. Solano County Water Agency, Solano Project, California: Renewal of water service and OM&R contracts.

33. Water user entities responsible for payment of reimbursable costs for Reclamation projects in California, Nevada, and Oregon: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see the Reclamation press release at https://www.usbr.gov/newsroom/#/news-release/4205.

34. San Luis Canal Company, Central California ID, Firebaugh Canal WD, Columbia Canal Company (collectively San Joaquin River Exchange Contractors); CVP; California: Amend 1968 second amended contract for exchange of water.

35. Napa County Flood Control and Water Conservation District, Solano Project, California: Renewal of long-term water service contract for up to 1,500 acre-feet from Lake Berryessa.

36. San Juan WD, CVP, California: Long-term Warren Act contract for up to 25,000 acre-feet annually for conveyance through Folsom Reservoir and associated facilities.

37. California Department of Water Resources, CVP, California: Contributed Funds Agreement for SOD costs related to the B.F. Sisk SOD project.

Christopher Beardsley,
Director, Policy and Programs.

[FR Doc. 2023-03963 Filed 2-24-23; 8:45 am]

BILLING CODE 4332-90-P